DEPARTMENT OF COMMERCE

National Oceanic and Atmospheric Administration

[I.D. 022602A]

Mid-Atlantic Fishery Management Council (MAFMC) and the Atlantic States Marine Fisheries Commission (ASMFC); Public Hearings

AGENCY: National Marine Fisheries Service (NMFS), National Oceanic and Atmospheric Administration (NOAA), Commerce.

ACTION: Public hearings, request for comments.

SUMMARY: The Mid-Atlantic Fishery Management Council and the Atlantic States Marine Fisheries Commission, will hold public hearings to allow input on Amendment 13 to the Summer Flounder, Scup, and Black Sea Bass Fishery Management Plan (FMP). The purpose of the Amendment is to address problems associated with the commercial fishery for black sea bass and to implement management alternatives for summer flounder, scup, and black sea bass to prevent, mitigate, or minimize adverse effects on essential fish habitat caused by fishing and enhance compliance with the Magnuson-Stevens Fishery Conservation and Management Act.

DATES: Written comments will be accepted until April 15, 2002. See SUPPLEMENTARY INFORMATION for dates and times of public hearings.

ADDRESSES: Send comments to Mr. Daniel T. Furlong, Executive Director, Mid-Atlantic Fishery Management Council, Room 2115, 300 S. New Street, Dover, DE 19904. For specific locations, see SUPPLEMENTARY INFORMATION.

The hearings will be held in Massachusetts, Connecticut, Rhode Island, New York, New Jersey, Maryland, Virginia, and North Carolina.

FOR FURTHER INFORMATION CONTACT: Daniel T. Furlong, Executive Director, Mid-Atlantic Fishery Management Council; telephone: 302-674-2331, ext. 19.

SUPPLEMENTARY INFORMATION:

Background

This amendment would (1) revise the quarterly commercial quota system for black sea bass implemented in Amendment 9 to the Summer Flounder, Scup, and Black Sea Bass Fisheries Management Plan; (2) address the problem related to permit requirements for fishermen that have both a Northeast Black Sea Bass Permit and a Southeast Snapper/Grouper Permit and fish for black sea bass north and south of Cape Hatteras, NC; (3) address the problems related to the wet storage of black sea bass pots/traps; (4) establish de minimus specifications for black sea bass under the Atlantic State Marine Fisheries Commission Interstate Fisheries Management Program Charter; (5) implement tag requirements for black sea bass pots/traps; (6) limit the number of black sea bass pots/traps fished by fishermen; and (7) assess the impact of fishing activities on essential fish habitat and implement management alternatives for summer flounder, scup and black sea bass to prevent, mitigate, or minimize adverse effects on essential fish habitat caused by fishing.

In conjunction with development of Amendment 13, the Council prepared a Draft Environmental Impact Statement (DEIS) under the National Environmental Policy Act (NEPA) to assess the potential effects of the proposed actions, and the alternatives to those actions, on the human environment. This DEIS updates the information presented in Amendments 2, 8, and 9 for summer flounder, scup, and black sea bass, respectively.

A notice of availability for the DEIS for Amendment 13 was published in the Federal Registeron March 1, 2002. The 45-day public comment period for the DEIS ends on April 15, 2002. Copies can be obtained from the Mid-Atlantic Fishery Management Council (see ADDRESSES)

Dates, Times, and Locations of DEIS Hearings

1. Monday, March 18, 2002, 7-10 p.m.—Grand Hotel, 1045 Beach Ave., (corner of Philadelphia and Beach Ave.) Cape May, NJ (609-884-5611)

2. Monday, March 18, 2002, 7-10 p.m.—Best Western (Canal Club), 100 Trowbridge Road, Bourne, MA (800-675-0008)

3. Tuesday, March 19, 2002, 7-10 p.m.—Comfort Inn, 1940 Post Road, Warwick, RI (877-805-8997)

4. Tuesday, March 19, 2002, 7-10 p.m.—Sheraton, 110 Vanderbilt Motor Pkwy, Smithtown, NY (631-231-1100)

5. Tuesday, March 19, 2002, 7-10 p.m.—Ocean Pines Library, 11107 Cathell Road, Ocean Pines, MD (410-208-4014)

6. Wednesday, March 20, 2002, 7-10 p.m.—Quality Inn Lake Wright, 6280 Northampton Blvd., Norfolk, VA (757-461-6251)

7. Thursday, March 21, 2002, 7-10 p.m.—Roanoke Island Festival Park, 1 Festival Park, Manteo, NC (252-475-1500)

The hearings will be tape recorded, with the tapes filed as the official transcript of the hearings.

Special Accommodations

The hearings are physically accessible to people with disabilities. Requests for sign language interpretation or other auxiliary aids should be directed to Joanna Davis at the Council Office at least 5 days prior to the hearing dates.

Dated: February 28, 2002.
Bruce C. Morehead,
Acting Director, Office of Sustainable Fisheries, National Marine Fisheries Service.

[FR Doc. 02-5319 Filed 3-5-02; 8:45 am]

BILLING CODE 3510-22-S